DEPARTMENT OF TRANSPORTATION

Federal Aviation Administration

RTCA Program Management Committee Meeting

AGENCY: Federal Aviation Administration (FAA), U.S. Department of Transportation (DOT).

ACTION: RTCA Program Management Committee Meeting.

SUMMARY: The FAA is issuing this notice to advise the public of a meeting of RTCA Program Management Committee Meeting.

DATES: The meeting will be held March 22, 2018 8:30 a.m.-4:30 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the RTCA PMC Program Management Committee Meeting. The agenda will include the following:

1. Welcome and Introductions

2. Review/Approve

A. Meeting Summary December 19, 2017

B. Administrative SC TOR Revisions

3. Publication Consideration/Approval

A. Revision to DO-257A—Minimum Operational Performance Standards for the Depiction of Navigational Information on Electronic Maps Prepared, by SC-227 (Standards of Navigation Performance)

4. Integration and Coordination Committee (ICC)

5. Cross Cutting Committee (CCC)

6. Past Action Item Review

7. Discussion

A. SC-223—Internet Protocol Suite (IPS) and Aeronautical Mobile Airport Communication System (AEROMACS)—Discussion—Revised TOR

B. SC-229—406 MHZ Emergency Locator Transmitters (ELTS)—Discussion—Revised TOR

C. SC-236—Standards for Wireless Avionics Intra-Communication System (WAIC) WITHIN 4300-4400 MHZ—Discussion—Revised TOR

D. SC-147—Aircraft Collision Avoidance Systems—Discussion—Status

E. SC-206—Aeronautical Information and Meteorological Data Link Services—Discussion—Temporary Restricted Areas White Paper—Discussion

F. NAC—Status Update

G. TOC—Status Update

H. DAC—Status Update

I. FAA Actions Taken on Previously Published Documents—Report

J. Special Committees—Chairmen's Reports and Active Inter-Special Committee Requirements Agreements (ISRA)—Review

K. European/Eurocae Coordination—Status Update

8. Documents Open for Final Review and Comment

9. Other Business

10. Schedule for Committee Deliverables and Next Meeting Date

11. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 7, 2018.
Mohannad Dawoud,
Management & Program Analyst, Partnership Contracts Branch, ANG-A17, NextGen, Procurement Services Division, Federal Aviation Administration.

[FR Doc. 2018-02832 Filed 2-12-18; 8:45 am]

BILLING CODE 4910-13-P